DEPARTMENT OF HOUSING AND URBAN DEVELOPMENT

[Docket No. FR-5601-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; ENERGY: Mr. Mark Price, Department of Energy, Office of Engineering & Construction Management, MA-50, 1000 Independence Ave. SW., Washington, DC 20585: (202) 586-5422; NAVY: Mr. Steve Matteo, Department of the Navy, Asset Management Division, Naval Facilities Engineering Command, Washington Navy Yard, 1330 Patterson Ave. SW., Suite 1000, Washington, DC 20374; (202) 685-9426 (These are not toll-free numbers).

Dated: March 15, 2012.
Mark R. Johnston,
Deputy Assistant Secretary for Special Needs.

TITLE V, FEDERAL SURPLUS PROPERTY PROGRAM FEDERAL REGISTER REPORT FOR 03/23/2012

Suitable/Available Properties

Building

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Bldg. 5435

Davis Ave.

Barksdale CA 71101

Landholding Agency: Air Force

Property Number: 18201140041

Status: Underutilized

Comments: off-site removal only; 3,024 sq. ft.; current use: bank; need repairs

Colorado

Bldg. 1425 and 143

Peterson AFB

Colorado Springs CO 80914

Landholding Agency: Air Force

Property Number: 18201140024

Status: Unutilized

Comments: off-site removal only; 1425—64,254 sq. ft.; 143—100 sq. ft.; current use: storage to base exchange; need repairs; possible asbestos

Florida

Fac. 90329

Cape Canaveral AFS

Cape Canaveral FL 32925

Landholding Agency: Air Force

Property Number: 18201210085

Status: Excess

Comments: 4,203 sq. ft.; current use: office; very poor conditions—needs extensive repairs

Hawaii

Bldg. 849

Bellows AFS

Bellows AFS HI

Landholding Agency: Air Force

Property Number: 18200330008

Status: Unutilized

Comments: 462 sq. ft., concrete storage facility, off-site use only

Maine

Bldgs 1, 2, 3, 4

OTH-B Radar Site

Columbia Falls ME

Landholding Agency: Air Force

Property Number: 18200840009

Status: Unutilized

Comments: various sq. ft., most recent use—storage/office

Nebraska

10 Bldgs.

Temp. Lodging

Offutt NE 68113

Landholding Agency: Air Force

Property Number: 18201120014

Status: Excess

Directions: 5089, 5090, 5091, 5092, 5093, 5094, 5095, 5097, 5098, 5099

Comments: off-site removal only, sq. ft. varies btw. each bldg., current-use: temp. lodging, good to fair conditions for all bldgs.

Bldg. 5087

Capehart Housing Area

Offut NE 68113

Landholding Agency: Air Force

Property Number: 18201140027

Status: Excess

Comments: 25LF-wide, 14LF-height, 30LF-length; current use: exchange store; good to fair condition

New Mexico

Bldg. 1802

200 West Terminal Ave.

Cannon AFB

Cannon NM 88103

Landholding Agency: Air Force

Property Number: 18201210099

Status: Unutilized

Comments: Off site removal only; 3,780 sq. ft.; recent use: office; restricted access

Bldg 1803

403 Olympic Blvd.

Cannon NM 88103

Landholding Agency: Air Force

Property Number: 18201210100

Status: Unutilized

Comments: Off site removal only; 3,780 sq. ft.; recent use: office bldg.; restricted access

2 Bldgs.

Cannon AFB

Cannon NM 88103

Landholding Agency: Air Force

Property Number: 18201210111

Status: Underutilized

Directions: 2321 and 2322

Comments: Off-site removal only; sq. ft. varies; current use: varies; poor conditions—need repairs

New York

Bldg. 240

Rome Lab

Rome NY 13441

Landholding Agency: Air Force

Property Number: 18200340023

Status: Unutilized

Comments: 39108 sq. ft., presence of asbestos, most recent use—Electronic Research Lab

Bldg. 247

Rome Lab

Rome NY 13441

Landholding Agency: Air Force

Property Number: 18200340024

Status: Unutilized

Comments: 13199 sq. ft., presence of asbestos, most recent use—Electronic Research Lab

Bldg. 248

Rome Lab

Rome NY 13441

Landholding Agency: Air Force

Property Number: 18200340025

Status: Unutilized

Comments: 4000 sq. ft., presence of asbestos, most recent use—Electronic Research Lab

South Carolina

256 Housing Units

Charleston AFB

South Side Housing

Charleston SC

Landholding Agency: Air Force

Property Number: 18200920001

Status: Excess

Comments: Various sq. ft., presence of asbestos/lead paint, off-site use only

Bldg. 291

Pop Chamber Dr.

Charleston Weapons SC 29445

Landholding Agency: Air Force

Property Number: 18201210103

Status: Unutilized

Comments: Off site removal only; 225 sq. ft.; recent use: equipment storage

Bldg. 906

Joint Base Charleston-Weapons

Charleston SC 29445

Landholding Agency: Air Force

Property Number: 18201210105

Status: Unutilized

Directions: Enter base gate on Red Bank Rd and continue, passing Old Turn Rd. Turn right at Bldg 2 and follow rd on right side of Bldg 2. Bldg 906 is on right side.

Comments: Off site removal only; 400 sq. ft.; recent use: storage of spill kit items

Texas

Band Center

Lackland

San Antonio TX

Landholding Agency: Air Force

Property Number: 18201140038

Status: Unutilized

Comments: Off-site removal only; 15,669 sq. ft.; current use: band center; need repairs

Land

California

Parcels L1 & L2

George AFB

Victorville CA 92394

Landholding Agency: Air Force

Property Number: 18200820034

Status: Excess

Comments: 157 acres/desert, pump-and-treat system, groundwater restrictions, AF access rights, access restrictions, environmental concerns

Massachusetts

Land/TRACT #A101

McDill Rd.

Bedford MA 07131

Landholding Agency: Air Force

Property Number: 18201130003

Status: Unutilized

Comments: 5.35 acres, recent use: AF trailer court, property limitation: local Bedford Zoning By-Laws (Industrial Park District A-IP)

Missouri

Communications Site

County Road 424

Dexter MO

Landholding Agency: Air Force

Property Number: 18200710001

Status: Unutilized

Comments: 10.63 acres

North Carolina

0.14 acres

Pope AFB

Pope AFB NC

Landholding Agency: Air Force

Property Number: 18200810001

Status: Excess

Comments: Most recent use—middle marker, easement for entry

Texas

0.13 acres

DYAB, Dyess AFB

Tye TX 79563

Landholding Agency: Air Force

Property Number: 18200810002

Status: Unutilized

Comments: Most recent use—middle marker, access limitation

Suitable/Unavailable Properties

Building

Colorado

Bldg. 810—Trailer

270 South Aspen Street

Buckley AFB

Aurora CO

Landholding Agency: Air Force

Property Number: 18201110005

Status: Unutilized

Comments: Off-site removal only; 1,768 sq. ft; current use: pilot crew qtrs. fair conditions—$5,000 (estimated in repairs)

Bldg 811—Crews Trailer

272 South Aspen Street

Buckley AFB

Aurora CO 80011

Landholding Agency: Air Force

Property Number: 18201110008

Status: Unutilized

Comments: Off-site removal only, 2,340 sq. ft., current use; pilot crew qtrs. fair conditions—estimated $5,000 in repairs

AF Academy

8010 Sage Brush Dr.

USAF Academy CO 80840

Landholding Agency: Air Force

Property Number: 18201140026

Status: Unutilized

Comments: 2,670 sq. ft.; current use: unknown; 2007 Nat'l Register of Historic Places; fair conditions; possible asbestos

New York

Bldg. 302

Rome Lab

Rome NY 13441

Landholding Agency: Air Force

Property Number: 18200340026

Status: Unutilized

Comments: 10,288 sq. ft., presence of asbestos, most recent use—communications facility

Washington

Bldg. 404/Geiger Heights

Fairchild AFB

Spokane WA 99224

Landholding Agency: Air Force

Property Number: 18200420002

Status: Unutilized

Comments: 1,996 sq. ft., possible asbestos/lead paint, most recent use—residential

11 Bldgs./Geiger Heights

Fairchild AFB

Spokane WA 99224

Landholding Agency: Air Force

Property Number: 18200420003

Status: Unutilized

Comments: 2,134 sq. ft., possible asbestos/lead paint, most recent use—residential

Bldg. 297/Geiger Heights

Fairchild AFB

Spokane WA 99224

Landholding Agency: Air Force

Property Number: 18200420004

Status: Unutilized

Comments: 1,425 sq. ft., possible asbestos/lead paint, most recent use—residential

9 Bldgs./Geiger Heights

Fairchild AFB

Spokane WA 99224

Landholding Agency: Air Force

Property Number: 18200420005

Status: Unutilized

Comments: 1,620 sq. ft., possible asbestos/lead paint, most recent use—residential

22 Bldgs./Geiger Heights

Fairchild AFB

Spokane WA 99224

Landholding Agency: Air Force

Property Number: 18200420006

Status: Unutilized

Comments: 2,850 sq. ft., possible asbestos/lead paint, most recent use—residential

51 Bldgs./Geiger Heights

Fairchild AFB

Spokane WA 99224

Landholding Agency: Air Force

Property Number: 18200420007

Status: Unutilized

Comments: 2,574 sq. ft., possible asbestos/lead paint, most recent use—residential

Bldg. 402/Geiger Heights

Fairchild AFB

Spokane WA 99224

Landholding Agency: Air Force

Property Number: 18200420008

Status: Unutilized

Comments: 2,451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

Missouri

Outer Marker Annex

Whiteman AFB

Knob Noster MO 65336

Landholding Agency: Air Force

Property Number: 18200940001

Status: Unutilized

Comments: 0.75 acres, most recent use—communication

Annex No. 3

Whiteman AFB

Knob Noster MO 65336

Landholding Agency: Air Force

Property Number: 18201020001

Status: Underutilized

Comments: 9 acres

South Dakota

Tract 133

Ellsworth AFB

Box Elder SD 57706

Landholding Agency: Air Force

Property Number: 18200310004

Status: Unutilized

GSA Number:

Comments: 53.23 acres

Tract 67

Ellsworth AFB

Box Elder SD 57706

Landholding Agency: Air Force

Property Number: 18200310005

Status: Unutilized

GSA Number:

Comments: 121 acres, bentonite layer in soil, causes movement

Unsuitable Properties

Building

Alabama

5 Bldgs.

Maxwell-Gunter AFB

Maxwell AL 36112

Landholding Agency: Air Force

Property Number: 18201030001

Status: Unutilized

Directions: 28, 423, 811, 839, 1081

Comments: national security concerns; no public access or no alternative method to gain access; bldg. 423 was previously reported for portion; updated to report entire fac.

Reasons: Secured Area

4 Bldgs.

Birmingham IAP

Birmingham AL

Landholding Agency: Air Force

Property Number: 18201120050

Status: Underutilized

Directions: 202, 204, 205, 391

Reasons: Extensive deterioration, Secured Area, Within 2000 ft. of flammable or explosive material

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Secured Area, Extensive deterioration

Bldgs. 1437, 1190, 2375

Eielson AFB

Eielson AK

Landholding Agency: Air Force

Property Number: 18200830001

Status: Unutilized

Reasons: Secured Area, Extensive deterioration

5 Bldgs.

Eielson AFB

Eielson AK

Landholding Agency: Air Force

Property Number: 18200830002

Status: Unutilized

Directions: 3300, 3301, 3315, 3347, 3383

Reasons: Secured Area, Extensive deterioration

4 Bldgs.

Eielson AFB

Eielson AK

Landholding Agency: Air Force

Property Number: 18200830003

Status: Unutilized

Directions: 4040, 4332, 4333, 4480

Reasons: Secured Area, Extensive deterioration

Bldgs. 6122, 6205

Eielson AFB

Eielson AK

Landholding Agency: Air Force

Property Number: 18200830004

Status: Unutilized

Reasons: Extensive deterioration, Secured Area

Bldg. 8128

Elmendorf AFB

Elmendorf AK 99506

Landholding Agency: Air Force

Property Number: 18200830005

Status: Underutilized

Reasons: Secured Area

Bldgs. 615, 617, 751, 753

Eareckson Air Station

Shemya Island AK

Landholding Agency: Air Force

Property Number: 18200920015

Status: Unutilized

Reasons: Extensive deterioration, Secured Area, Within 2000 ft. of flammable or explosive material, Within airport runway clear zone

Bldgs. 100, 101

Point Barrow Long Range

Radar Site

Point Barrow AK

Landholding Agency: Air Force

Property Number: 18201010001

Status: Unutilized

Reasons: Within 2000 ft. of flammable or explosive material, Within airport runway clear zone

Bldg. 100 and 101

Long Range Radar Site

Point Barrow AK

Landholding Agency: Air Force

Property Number: 18201020003

Status: Unutilized

Reasons: Within airport runway clear zone, Within 2000 ft. of flammable or explosive material

7 Bldgs.

Eareckson Air Station

Eareckson AK 99546

Landholding Agency: Air Force

Property Number: 18201020004

Status: Unutilized

Directions: 132, 152, 153, 750, 3013, 3016, and 4012

Reasons: Within airport runway clear zone, Secured Area, Extensive deterioration

33 Bldgs.

Eielson AFB

Eielson AK 99702

Landholding Agency: Air Force

Property Number: 18201040005

Status: Excess

Directions: 5137, 5138, 5139, 5140, 5141, 5142, 5143, 5144, 5161, 5162, 5163, 5183, 5184, 5185, 5186, 5196, 5197, 5211, 5255, 5256, 5257, 5259, 5260, 5261, 5262, 5263, 5264, 5265, 5266, 5267, 5268

Reasons: Extensive deterioration, Secured Area

Bldg. 5198 and 5258

660 Edna Street

Eielson AFB AK

Landholding Agency: Air Force

Property Number: 18201120023

Status: Excess

Reasons: Secured Area, Extensive deterioration

5 Bldgs.

Clear AFB

Clear Denali AK

Landholding Agency: Air Force

Property Number: 18201120024

Status: Unutilized

Directions: 101, 103, 104, 105, 150

Reasons: Secured Area, Extensive deterioration

Bldg. 5198

Eielson AFB

Eielson AK 99702

Landholding Agency: Air Force

Property Number: 18201120054

Status: Excess

Reasons: Secured Area, Extensive deterioration

Bldg. 5312

9th Street

JBER AK 99506

Landholding Agency: Air Force

Property Number: 18201130010

Status: Underutilized

Reasons: Extensive deterioration, Secured Area

Bldgs. 662 and 664

5th Street

Elmendorf AK 99505

Landholding Agency: Air Force

Property Number: 18201130011

Status: Unutilized

Reasons: Extensive deterioration, Secured Area

Bldg. 5226

2552 Coman Street

Eielson AK 99702

Landholding Agency: Air Force

Property Number: 18201130012

Status: Unutilized

Reasons: Contamination, Extensive deterioration, Secured Area

Bldg. 658

Elmendorf

Elmendorf AK 99505

Landholding Agency: Air Force

Property Number: 18201130013

Status: Unutilized

Reasons: Secured Area, Extensive deterioration

Bldg. 3305

Sourdough Inn

Eielson AK 99702

Landholding Agency: Air Force

Property Number: 18201130014

Status: Unutilized

Reasons: Extensive deterioration, Secured Area

Bldg. 3354

MFH Self Help Store

Eielson AK 99702

Landholding Agency: Air Force

Property Number: 18201130015

Status: Unutilized

Reasons: Secured Area, Extensive deterioration

5 Bldgs.

Elmendorf

JBER AK 99506

Landholding Agency: Air Force

Property Number: 18201130017

Status: Underutilized

Directions: 7210, 5303, 12757, 12761, 12763

Comments: Reasons for unsuitability vary among properties.

Reasons: Extensive deterioration, Secured Area, Within 2000 ft. of flammable or explosive material, Within airport runway clear zone

Bldgs. 719 and 3055

Eareckson Air Station

Eareckson AK 99546

Landholding Agency: Air Force

Property Number: 18201130019

Status: Unutilized

Reasons: Extensive deterioration, Secured Area

Bldg. 3356

Eielson AFB

Eielson AK 99702

Landholding Agency: Air Force

Property Number: 18201130020

Status: Unutilized

Reasons: Within 2000 ft. of flammable or explosive material, Secured Area, Extensive deterioration

Bldg. 667

5th Street

Elmendorf AK 99505

Landholding Agency: Air Force

Property Number: 18201130038

Status: Unutilized

Reasons: Extensive deterioration, Secured Area

Arizona

Railroad Spur

Davis-Monthan AFB

Tucson AZ 85707

Landholding Agency: Air Force

Property Number: 18200730002

Status: Excess

Reasons: Within airport runway clear zone

Arkansas

Military Family Housing, 2 Bld

Eielson AFB

Eielson AR 99702

Landholding Agency: Air Force

Property Number: 18201110007

Status: Excess

Directions: Bldgs: 5258 & 5198

Reasons: Extensive deterioration

Bldg. 2383

Military Family Housing

Little Rock AR 72099

Landholding Agency: Air Force

Property Number: 18201140064

Status: Excess

Reasons: Secured Area

13 Bldgs.

Military Family Housing

Little Rock AR 92099

Landholding Agency: Air Force

Property Number: 18201140065

Status: Excess

Directions: 2355, 2368, 2369, 2370, 2371, 2376, 2378, 2385, 2397, 2481, 2405, 2447, 2457

Reasons: Secured Area

8 Bldgs.

Military Family Housing

Little Rock AR 72099

Landholding Agency: Air Force

Property Number: 18201140066

Status: Excess

Directions: 2413, 2416, 2421, 2425, 2440, 2441, 2453, 2458

Reasons: Secured Area

14 Bldgs.

Military Family Housing

Little Rock AR 72099

Landholding Agency: Air Force

Property Number: 18201140067

Status: Excess

Directions: 2356, 2358, 2365, 2380, 2399, 2407, 2408, 2410, 2419, 2442, 2445, 2449, 2452, 2456

Reasons: Secured Area

3 Bldgs.

Military Family Housing

Little Rock AR 72099

Landholding Agency: Air Force

Property Number: 18201140068

Status: Excess

Directions: 2432, 2434, 2437

Reasons: Secured Area

12 Bldgs.

Military Family Housing

Little Rock AR 72099

Landholding Agency: Air Force

Property Number: 18201140069

Status: Excess

Directions: 2366, 2367, 2390, 2422, 2426, 2427, 2428, 2429, 2430, 2431, 2433, 2436

Reasons: Secured Area

3 Bldgs.

Military Family Housing

Little Rock AR 72099

Landholding Agency: Air Force

Property Number: 18201140070

Status: Excess

Directions: 2392, 2393, 2394

Reasons: Secured Area

3 Bldgs.

Military Family Housing

Little Rock AR 72099

Landholding Agency: Air Force

Property Number: 18201140071

Status: Excess

Directions: 2384, 2391, 2404

Reasons: Secured Area

9 Bldgs.

Military Family Housing

Little Rock AR 72099

Landholding Agency: Air Force

Property Number: 18201140072

Status: Excess

Directions: 2372, 2409, 2411, 2446, 2448, 2450, 2451, 2455, 2460

Reasons: Contamination, Secured Area

Arkansas

22 Bldgs.

Military Family Housing

Little Rock AR 72099

Landholding Agency: Air Force

Property Number: 18201140073

Status: Excess

Directions: 2354, 2373, 2374, 2375, 2377, 2381, 2382, 2386, 2387, 2388, 2395, 2396, 2400, 2402, 2403, 2406, 2412, 2414, 2418, 2439, 2454, 2459

Reasons: Secured Area

6 Bldgs.

Military Family Housing

Little Rock AR 72099

Landholding Agency: Air Force

Property Number: 18201140074

Status: Excess

Directions: 2379, 2398, 2420, 2423, 2424, 2435

Reasons: Secured Area

13 Bldgs.

Military Housing

Little Rock AR 72099

Landholding Agency: Air Force

Property Number: 18201140075

Status: Excess

Directions: 2357, 2359, 2360, 2361, 2362, 2363, 2364, 2411, 2417, 2438, 2443, 2444, 2461

Reasons: Secured Area

California

Garages 25001 thru 25100

Edwards AFB

Area A

Los Angeles CA 93524

Landholding Agency: Air Force

Property Number: 18200620003

Status: Unutilized

Reasons: Extensive deterioration, Secured Area

Bldg. 00275

Edwards AFB

Kern CA 93524

Landholding Agency: Air Force

Property Number: 18200730003

Status: Unutilized

Reasons: Extensive deterioration, Within airport runway clear zone, Secured Area

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Extensive deterioration, Secured Area

Facility 100

Pt. Arena AF Station

Mendocino CA 95468

Landholding Agency: Air Force

Property Number: 18200810004

Status: Excess

Reasons: Extensive deterioration, Secured Area

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Secured Area, Extensive deterioration

Bldgs. 160, 161, 166

Pt. Arena AF Station

Mendocino CA 95468

Landholding Agency: Air Force

Property Number: 18200820020

Status: Excess

Reasons: Extensive deterioration, Secured Area

8 Bldgs.

Pt. Arena AF Station

Mendocino CA 95468

Landholding Agency: Air Force

Property Number: 18200820021

Status: Excess

Directions: 201, 202, 203, 206, 215, 216, 217, 218

Reasons: Extensive deterioration, Secured Area

7 Bldgs.

Pt. Arena AF Station

Mendocino CA 95468

Landholding Agency: Air Force

Property Number: 18200820022

Status: Excess

Directions: 220, 221, 222, 223, 225, 226, 228

Reasons: Secured Area, Extensive deterioration

Bldg. 408

Pt. Arena AF Station

Mendocino CA 95468

Landholding Agency: Air Force

Property Number: 18200820023

Status: Excess

Reasons: Secured Area, Extensive deterioration

Bldgs. 601 thru 610

Pt. Arena AF Station

Mendocino CA 95468

Landholding Agency: Air Force

Property Number: 18200820024

Status: Excess

Reasons: Secured Area, Extensive deterioration

Bldgs. 611-619

Pt. Arena AF Station

Mendocino CA 95468

Landholding Agency: Air Force

Property Number: 18200820025

Status: Excess

Reasons: Secured Area, Extensive deterioration

Bldgs. 620 thru 627

Pt. Arena AF Station

Mendocino CA 95468

Landholding Agency: Air Force

Property Number: 18200820026

Status: Excess

Reasons: Extensive deterioration, Secured Area

Bldgs. 654, 655, 690

Pt. Arena AF Station

Mendocino CA 95468

Landholding Agency: Air Force

Property Number: 18200820027

Status: Excess

Reasons: Secured Area, Extensive deterioration

Bldgs. 300, 387

Pt Arena Comm. Annex

Mendocino CA 95468

Landholding Agency: Air Force

Property Number: 18200820029

Status: Excess

Reasons: Secured Area, Extensive deterioration

Bldgs. 700, 707, 796, 797

Pt. Arena Comm. Annex

Mendocino CA 95468

Landholding Agency: Air Force

Property Number: 18200820030

Status: Excess

Reasons: Extensive deterioration, Secured Area

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration

Bldgs. 1154, 2459, 5114

Beale AFB

Beale CA 95903

Landholding Agency: Air Force

Property Number: 18201010004

Status: Unutilized

Reasons: Extensive deterioration

Bldg. 1213

Beale AFB

Beale CA 95903

Landholding Agency: Air Force

Property Number: 18201030002

Status: Unutilized

Reasons: Extensive deterioration

37 Bldgs.

Beale AFB

Marysville CA 95901

Landholding Agency: Air Force

Property Number: 18201040014

Status: Unutilized

Directions: 4199, 4205, 4207, 4211, 4215, 4218, 4219, 4222, 4226, 4227, 4229, 4230, 4231, 4238, 4241, 4242, 4256, 4260, 4264, 4268, 4284, 4286, 4308, 4310, 4314, 4318, 4320, 4333, 4341, 4353, 4355, 4382, 4384, 4395, 4397, 4399, 4401

Reasons: Extensive deterioration

38 Bldgs.

Beale AFB

Marysville CA 95901

Landholding Agency: Air Force

Property Number: 18201040015

Status: Unutilized

Directions: 4415, 4417, 4457, 4467, 4475, 4496, 4534, 4598, 4600, 4603, 4605, 4618, 4620, 4634, 4636, 4639, 4641, 4659, 4661, 4664, 4666, 4675, 4677, 4691, 4693, 4703, 4705, 4708, 4710, 4717, 4719, 4724, 4725, 4726, 4727, 4732, 4734, 4522

Reasons: Extensive deterioration

11 Bldgs.

Beale AFB

Marysville CA 95901

Landholding Agency: Air Force

Property Number: 18201040016

Status: Unutilized

Directions: 5205, 5216, 5223, 5228, 5236, 5238, 5277, 5278, 5279, 5294, 5297

Reasons: Extensive deterioration

36 Bldgs.

Beale AFB

Marysville CA 95901

Landholding Agency: Air Force

Property Number: 18201040017

Status: Unutilized

Directions: 3873, 3887, 3919, 3936, 3942, 3947, 3961, 4075, 4103, 4105, 4115, 4118, 4119, 4120, 4122, 4133, 4136, 4137, 4142, 4145, 4148, 4151, 4157, 4158, 4161, 4166, 4171, 4178, 4179, 4181, 4184, 4185, 4189, 4193, 4197, 4198

Reasons: Extensive deterioration

Bldg. 1055

7910 Arnold Ave.

Beale CA 95903

Landholding Agency: Air Force

Property Number: 18201120001

Status: Unutilized

Reasons: Extensive deterioration, Secured Area, Within 2000 ft. of flammable or explosive material

Bldg. 3304

4850 Camp Beale Hwy

Beale CA 95903

Landholding Agency: Air Force

Property Number: 18201120002

Status: Unutilized

Reasons: Extensive deterioration

Bldg. 1056

7944 Arnold Ave.

Beale CA 95903

Landholding Agency: Air Force

Property Number: 18201120004

Status: Unutilized

Reasons: Secured Area, Floodway, Within 2000 ft. of flammable or explosive material, Extensive deterioration

Bldg. 2457

17700 25th St.

Beale CA 95903

Landholding Agency: Air Force

Property Number: 18201120008

Status: Unutilized

Reasons: Extensive deterioration

Bldg. 7201

501 Payne Ave

Edwards AFB CA

Landholding Agency: Air Force

Property Number: 18201120046

Status: Underutilized

Reasons: Within airport runway clear zone, Secured Area

Bldgs. 2110 & 2111

Edwards AFB

Edwards AFB CA

Landholding Agency: Air Force

Property Number: 18201120047

Status: Underutilized

Reasons: Secured Area, Within airport runway clear zone

Bldgs. 12 & 14

Jones Rd, Edwards AFB

Edwards AFB CA

Landholding Agency: Air Force

Property Number: 18201120048

Status: Underutilized

Reasons: Within airport runway clear zone, Secured Area

Bldg. 3304

Beale AFB

Beale CA

Landholding Agency: Air Force

Property Number: 18201120049

Status: Unutilized

Reasons: Extensive deterioration

3 Bldgs.

Beale AFB

Beale CA

Landholding Agency: Air Force

Property Number: 18201120053

Status: Unutilized

Directions: 5705, 5706, 5707

Reasons: Within 2,000 ft. of flammable or explosive material, Secured Area, Extensive deterioration

3 Bldgs.

USAF

Barkdale CA 71110

Landholding Agency: Air Force

Property Number: 18201130007

Status: Unutilized

Directions: B-4134, B-4143, B4714

Comments: Reasons for unsuitability vary among properties.

Reasons: Secured Area, Within 2,000 ft. of flammable or explosive material

14 Bldgs.

Surf Road

Vandenberg CA 93437

Landholding Agency: Air Force

Property Number: 18201130016

Status: Unutilized

Directions: 595, 768, 995, 996, 997, 1537, 1538, 1539, 1820, 1835, 1960, 22104, 22107, 22112

Reasons: Secured Area, Extensive deterioration

16 Bldgs.

Edwards AFB

Edwards CA 93524

Landholding Agency: Air Force

Property Number: 18201130035

Status: Unutilized

Directions: 5516, 9644, 2111, 4286, 4290, 4291, 4292, 4410, 4412, 4954, 4957, 4963, 4964, 5502, 5512, 5514

Reasons: Secured Area, Contamination, Within airport runway clear zone, Extensive deterioration

Fresno Yosemite Intern'l ANG

5323 E. McKinley Ave.

Fresno CA 93727

Landholding Agency: Air Force

Property Number: 18201140001

Status: Underutilized

Reasons: Secured Area

17 Bldgs.

Edwards AFB

Edwards CA 93524

Landholding Agency: Air Force

Property Number: 18201140008

Status: Unutilized

Directions: 8799, 8814, 8822, 8824, 8832, 9588, 9635, 4258, 4260, 304, 1865, 2585, 3501, 3512, 3523, 3735, 3742

Reasons: Extensive deterioration, Secured Area, Within airport runway clear zone

19 Bldgs.

Edwards AFB

Edwards CA 93524

Landholding Agency: Air Force

Property Number: 18201140019

Status: Unutilized

Directions: 4271, 4261, 4264, 4267, 4268, 4272, 4273, 4274, 4280, 4281, 4402, 4904, 4953, 4962, 8668, 8701, 4241, 4242, 4243

Reasons: Extensive deterioration, Within 2,000 ft. of flammable or explosive material, Secured Area

10 Bldgs.

Edwards AFB

Edwards CA 93524

Landholding Agency: Air Force

Property Number: 18201140020

Status: Unutilized

Directions: 4244, 4245, 4246, 4247, 4252, 4255, 4254, 4248, 4256, 4257

Reasons: Extensive deterioration, Secured Area, Within 2,000 ft. of flammable or explosive material

Bldg. 283

483 N. Aviation Blvd.

El Segundo CA 90292

Landholding Agency: Air Force

Property Number: 18201140025

Status: Underutilized

Reasons: Extensive deterioration, Secured Area

38 Bldgs.

Cape Military Family Houses

Beale CA 95309

Landholding Agency: Air Force

Property Number: 18201140034

Status: Unutilized

Directions: 3945, 4097, 4126, 4138, 4141, 4156, 4160, 4300, 4334, 4350, 4352, 4374, 4346, 4379, 4381, 4394, 4396, 4406, 4408, 4591, 4593, 4594, 4596, 4599, 4601, 4602, 4604, 4623, 4625, 4630, 4631, 4632, 4633, 4634, 4645, 4647, 4648, 4649

Reasons: Extensive deterioration

27 Bldgs.

Cape Military Family Houses

Beale CA 95309

Landholding Agency: Air Force

Property Number: 18201140035

Status: Unutilized

Directions: 4650, 4651, 4653, 4656, 4658, 4667, 4669, 4672, 4674, 4676, 4678, 4696, 4698, 4704, 4707, 4712, 4714, 4720, 4721, 4722, 4723, 4728, 4730, 4736, 4738, 4756, 4758

Reasons: Extensive deterioration

7 Bldgs.

Cape Military Family Houses

Beale CA 95309

Landholding Agency: Air Force

Property Number: 18201140051

Status: Unutilized

Directions: 3119, 3121, 3123, 3125, 3126, 3127, 3128

Reasons: Extensive deterioration

26 Bldgs.

Cape Military Family Houses

Beale CA 95309

Landholding Agency: Air Force

Property Number: 18201140052

Status: Unutilized

Directions: 5220A, 5220B, 5232A, 5232B, 5235A, 5235B, 5274A, 5247B, 5256A, 5256B, 5269A, 5269B, 5271A, 5271B, 5275A, 5275B, 5283A, 5283B, 5285A, 5285B, 5288A, 5288B, 5292A, 5292A, 5216A, 5296B

Reasons: Extensive deterioration

Bld. 2110

Fitzgerald Blvd.

Edwards CA 83524

Landholding Agency: Air Force

Property Number: 18201140053

Status: Underutilized

Reasons: Within airport runway clear zone, Secured Area

Bldg. 2111

107 Fitzgerald Blvd.

Edwards CA 93524

Landholding Agency: Air Force

Property Number: 18201140054

Status: Underutilized

Reasons: Within airport runway clear zone, Secured Area

4 Bldgs.

Payne Ave.

Edwards CA

Landholding Agency: Air Force

Property Number: 18201140055

Status: Unutilized

Directions: 7197, 7198, 7199, 7200

Reasons: Within 2000 ft. of flammable or explosive material, Secured Area, Extensive deterioration

Bldg. 12

Jones Road

Edwards CA 93524

Landholding Agency: Air Force

Property Number: 18201140056

Status: Underutilized

Reasons: Within airport runway clear zone, Secured Area

Bldgs. 7206 and 7208

Payne Ave.

Edwards CA 93524

Landholding Agency: Air Force

Property Number: 18201140057

Status: Unutilized

Reasons: Within 2000 ft. of flammable or explosive material, Secured Area, Extensive deterioration

4 Bldgs.

Payne Ave.

Edwards CA 93524

Landholding Agency: Air Force

Property Number: 18201140058

Status: Unutilized

Directions: 7202, 7203, 7204, 7205

Reasons: Within 2000 ft. of flammable or explosive material, Secured Area, Extensive deterioration

4 Bldgs.

Payne Ave

Edwards CA 93524

Landholding Agency: Air Force

Property Number: 18201140059

Status: Unutilized

Directions: 7193, 7194, 7195, 7196

Reasons: Within 2000 ft. of flammable or explosive material, Extensive deterioration, Secured Area

Bldgs. 7177 and 7197

401 and 405 14th Street

Edwards CA 93524

Landholding Agency: Air Force

Property Number: 18201140060

Status: Unutilized

Reasons: Extensive deterioration, Within 2000 ft. of flammable or explosive material, Secured Area

Bldgs. 7176 and 7178

400 and 404 13th St.

Edwards CA 93524

Landholding Agency: Air Force

Property Number: 18201140061

Status: Underutilized

Reasons: Within airport runway clear zone, Secured Area, Extensive deterioration

Bldg. 2425

215 Spiro Ave.

Edwards CA 93524

Landholding Agency: Air Force

Property Number: 18201140062

Status: Underutilized

Reasons: Secured Area

2 Bldgs.

Edwards AFB

Edwards CA 93524

Landholding Agency: Air Force

Property Number: 18201210086

Status: Unutilized

Directions: 9530 and 9531

Comments: nat'l security concerns; no public access and no alternative method to gain access

Reasons: Secured Area

7 Bldgs.

Edwards AFB

Edwards CA 93524

Landholding Agency: Air Force

Property Number: 18201210087

Status: Unutilized

Directions: 3496, 9641, 602, 4269, 4951, 7981, 8804

Comments: nat'l security concerns; no public access and no alternative method to gain access

Reasons: Secured Area

4 Bldgs.

Edwards AFB

Edwards CA 93524

Landholding Agency: Air Force

Property Number: 18201210088

Status: Unutilized

Directions: 9532, 9533, 9536, 9593

Comments: nat'l security concerns; no public access and no alternative method to gain access

Reasons: Secured Area

3 Bldgs.

Edwards AFB

Edwards CA 93524

Landholding Agency: Air Force

Property Number: 18201210089

Status: Unutilized

Directions: 9020, 9520, 9526

Comments: nat'l security concerns; no public access and no alternative method to gain access

Reasons: Secured Area

B-200508 and B-200509

Marine Corps Air Station

San Diego CA

Landholding Agency: Navy

Property Number: 77201210004

Status: Excess

Comments: nat'l security concerns; no public access and no alternative method to gain access

Reasons: Secured Area

9 Bldgs.

Marine Corp Air Station

San Diego CA

Landholding Agency: Navy

Property Number: 77201210005

Status: Excess

Directions: 200513, 200514, 200515, 200516, 200517, 200518, 200519, 200520, 200523

Comments: nat'l security concerns; no public access and no alternative method to gain access

Reasons: Secured Area

B-200558

Marine Corps Air Station

San Diego CA

Landholding Agency: Navy

Property Number: 77201210006

Status: Excess

Comments: nat'l security concerns; no public access and no alternative method to gain access

Reasons: Secured Area

Colorado

Bldg. 9038

U.S. Air Force Academy

El Paso CO 80840

Landholding Agency: Air Force

Property Number: 18200920004

Status: Unutilized

Reasons: Extensive deterioration

Bldg. 6980

U.S. Air Force Academy

El Paso CO 80840

Landholding Agency: Air Force

Property Number: 18200940009

Status: Unutilized

Reasons: Secured Area

Bldgs. 6966, 6968, 6930, 6932

USAF Academy

El Paso CO 80840

Landholding Agency: Air Force

Property Number: 18201010005

Status: Unutilized

Reasons: Secured Area

Bldg. 1413

Buckley AFB

Aurora CO

Landholding Agency: Air Force

Property Number: 18201020006

Status: Unutilized

Reasons: Secured Area, Extensive deterioration

7 Bldgs.

U.S. Air Force Academy

El Paso CO 80840

Landholding Agency: Air Force

Property Number: 18201030004

Status: Unutilized

Directions: 2330, 2331, 2332, 2333, 3190, 9020, 9035

Reasons: Secured Area

Florida

Bldg. 82

Air Force Range

Avon Park FL 33825

Landholding Agency: Air Force

Property Number: 18200840002

Status: Unutilized

Reasons: Contamination, Secured Area

Bldg. 202

Avon Park AF Range

Polk FL 33825

Landholding Agency: Air Force

Property Number: 18200930005

Status: Unutilized

Reasons: Extensive deterioration

Facility 47120

Cape Canaveral AFB

Brevard FL 32925

Landholding Agency: Air Force

Property Number: 18200940010

Status: Unutilized

Reasons: Secured Area

Florida

15 Bldgs.

Tyndall AFB

Bay FL 32403

Landholding Agency: Air Force

Property Number: 18201010006

Status: Unutilized

Directions: 129, 131, 138, 153, 156, 419, 743, 745, 1003, 1269, 1354, 1355, 1506, 6063, 6067

Reasons: Secured Area

4 Bldgs.

Cape Canaveral AFS

Brevard FL 32925

Landholding Agency: Air Force

Property Number: 18201010007

Status: Unutilized

Directions: 56621, 56629, 56632, 67901

Reasons: Secured Area

Bldgs. 1622, 60408, and 60537

Cape Canaveral AFS

Brevard FL 32925

Landholding Agency: Air Force

Property Number: 18201020007

Status: Unutilized

Reasons: Secured Area

Florida

13 Bldgs.

Tyndall AFB

Bay FL 32403

Landholding Agency: Air Force

Property Number: 18201020008

Status: Excess

Directions: B111, B113, B115, B205, B206, B501, B810, B812, B824, B842, B1027, B1257, and B8402

Reasons: Secured Area, Within 2000 ft. of flammable or explosive material

Bldg. 90023

Hurlburt Field

Hurlburt FL 32544

Landholding Agency: Air Force

Property Number: 18201030005

Status: Unutilized

Reasons: Secured Area, Extensive deterioration

Bldg. 89002

Cape Canaveral AFS

Brevard FL 32920

Landholding Agency: Air Force

Property Number: 18201030006

Status: Unutilized

Reasons: Within 2000 ft. of flammable or explosive material, Secured Area

9 Bldgs

Null

Cape Canaveral AFS FL 32925

Landholding Agency: Air Force

Property Number: 18201110009

Status: Unutilized

Directions: Bldgs: 44606, 49942, 70650, 78710, 07702, 8801, 8806, 8814, 10751

Reasons: Secured Area

4 Bldgs

Cape Canaveral

Cape Canaveral FL 32925

Landholding Agency: Air Force

Property Number: 18201120025

Status: Excess

Directions: 5401, 5403, 7200, 60748

Reasons: Secured Area

10 Bldgs.

Tyndall AFB

Tyndall FL 32403

Landholding Agency: Air Force

Property Number: 18201120027

Status: Underutilized

Directions: 505, 729, 1013, 1015, 1016, 1476, 1701, 6014, 6016, 6020

Reasons: Extensive deterioration, Within 2000 ft. of flammable or explosive materil, Secured Area

Bldgs. 6028 and 6030

Florida Ave

Tyndall FL 32403

Landholding Agency: Air Force

Property Number: 18201120028

Status: Underutilized

Reasons: Extensive deterioration, Floodway, Within airport runway clear zone, Within 2000 ft. of flammable or explosive material, Secured Area

6 Bldgs.

Tyndall AFB

Tyndall FL

Landholding Agency: Air Force

Property Number: 18201120055

Status: Underutilized

Directions: B106, B124, B164, B180, B181, B182

Reasons: Secured Area, Within 2000 ft. of flammable or explosive material, Extensive deterioration, Within airport runway clear zone

10 Bldgs.

Tyndall AFB

Tyndall FL

Landholding Agency: Air Force

Property Number: 18201120057

Status: Underutilized

Directions: 505, 729, 1013, 1015, 1016, 1476, 1701, 6014, 6016, 6020

Reasons: Within 2000 ft. of flammable or explosive material, Extensive deterioration, Secured Area

Bldgs. 3013 and 3018

Duke Field

Okaloosa FL 32542

Landholding Agency: Air Force

Property Number: 18201130021

Status: Underutilized

Reasons: Secured Area, Extensive deterioration, Within 2000 ft. of flammable or explosive material

Facility 3021

Duke Field

Okaloosa FL 32542

Landholding Agency: Air Force

Property Number: 18201130029

Status: Underutilized

Reasons: Contamination, Secured Area, Extensive deterioration, Within 2000 ft. of flammable or explosive material

Bldg. 1050

28 South Blvd.

Avon Park FL 33825

Landholding Agency: Air Force

Property Number: 18201130036

Status: Unutilized

Reasons: Secured Area, Extensive deterioration

Bldgs. 1021 and 1037

125 Fighter Wing

Jacksonville FL 32218

Landholding Agency: Air Force

Property Number: 18201140010

Status: Unutilized

Reasons: Secured Area

Bldg. 90343

320 Tully St

Hurlburt FL 32544

Landholding Agency: Air Force

Property Number: 18201140023

Status: Underutilized

Reasons: Extensive deterioration, Secured Area

3 Bldgs.

Hurlburt Field

Hurburt Field FL 32544

Landholding Agency: Air Force

Property Number: 18201140037

Status: Underutilized

Directions: 90034, 900345, 90330

Reasons: Extensive deterioration

Bldg. 1608

14560 Samuel C. Phillips Pkwy

Cape Canaveral FL 32925

Landholding Agency: Air Force

Property Number: 18201210094

Status: Excess

Comments: Nat'l security concerns; no public access and no alternative method to gain access

Reasons: Secured Area

Bldgs. 70662 and 70663

476 Loop Rd.

Cape Canaveral FL 32925

Landholding Agency: Air Force

Property Number: 18201210096

Status: Excess

Comments: Nat'l security concerns; no public access and no alternative method to gain access

Reasons: Secured Area

Bldg. 49645

15215 Samuel C. Phillips Pkwy

Cape Canaveral FL 32925

Landholding Agency: Air Force

Property Number: 18201210097

Status: Excess

Comments: Nat'l security concerns; no public access and no alternative method to gain access

Reasons: Secured Area

Bldgs. 56930 and 56926

Skybolt Rd.

Cape Canaveral FL 32925

Landholding Agency: Air Force

Property Number: 18201210098

Status: Excess

Comments: Nat'l security concerns; no public access and no alternative method to gain access

Reasons: Secured Area

Bldg. 74100

350 Pier Rd.

Cape Canaveral FL 32925

Landholding Agency: Air Force

Property Number: 18201210101

Status: Excess

Comments: Nat'l security concerns; no public access and no alternative method to gain access

Reasons: Secured Area

4 Bldgs.

Hurlburt Field

Hurlburt Field FL 32544

Landholding Agency: Air Force

Property Number: 18201210112

Status: Underutilized

Directions: Bldgs. 90315, 90317, 90137, 90336

Comments: Nat'l security concerns; no public access and no alternative method to gain access

Reasons: Secured Area

B-877 and 952

NAS Jacksonville

Jacksonville FL

Landholding Agency: Navy

Property Number: 77201210007

Status: Unutilized

Comments: Nat'l security concerns; no public access and no alternative method to gain access

Reasons: Secured Area

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Secured Area, Extensive deterioration

Bldgs. 104, 118, 739, 742, 973

Moody AFB

Lowndes GA 31699

Landholding Agency: Air Force

Property Number: 18200920016

Status: Unutilized

Reasons: Extensive deterioration, Secured Area

Bldgs. 134, 804, 841, 978

Moody AFB

Moody AFB GA 31699

Landholding Agency: Air Force

Property Number: 18201010008

Status: Underutilized

Reasons: Secured Area

Bldgs. 665 and 1219

Moody AFB

Moody AFB GA 31699

Landholding Agency: Air Force

Property Number: 18201020009

Status: Underutilized

Reasons: Secured Area

7 Bldgs.

Moody AFB

Moody GA 31699

Landholding Agency: Air Force

Property Number: 18201030007

Status: Unutilized

Directions: 112, 150, 716, 719, 757, 1220, 1718

Reasons: Secured Area

Facility 1413

Savannah Hilton Intern'l Airport

Garden City GA 31408

Landholding Agency: Air Force

Property Number: 18201140015

Status: Unutilized

Reasons: Secured Area, Extensive deterioration

Bldgs. 1112 and 1114

Munitions Circle

Moody GA 31699

Landholding Agency: Air Force

Property Number: 18201140028

Status: Unutilized

Reasons: Secured Area, Extensive deterioration

4 Bldgs.

3274 Georgia St.

Moody GA 31699

Landholding Agency: Air Force

Property Number: 18201140029

Status: Underutilized

Directions: 894, 895, 896, 897

Reasons: Extensive deterioration

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Secured Area, Extensive deterioration

Bldgs. 101, 102

Andersen AFB

Pots Junction GU

Landholding Agency: Air Force

Property Number: 18200920018

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 1716

RPUID

Wake Island HI

Landholding Agency: Air Force

Property Number: 18201010009

Status: Unutilized

Reasons: Secured Area, Extensive deterioration

Bldg. 12

Kokee AFS

Waimea HI

Landholding Agency: Air Force

Property Number: 18201010010

Status: Unutilized

Reasons: Extensive deterioration

Bldg. 501

Hickam AFB

Hickam HI

Landholding Agency: Air Force

Property Number: 18201010011

Status: Unutilized

Reasons: Secured Area

6 Bldgs.

Kaena Point Satellite

Tracking Station

Honolulu HI

Landholding Agency: Air Force

Property Number: 18201010012

Status: Excess

Directions: 16, 18, 20, 21, 32, 33

Reasons: Extensive deterioration

Bldgs. 39 and 14111

Kaena Point Satellite Tracking Station

Honolulu HI 96792

Landholding Agency: Air Force

Property Number: 18201020010

Status: Excess

Reasons: Secured Area, Within 2000 ft. of flammable or explosive material

6 Bldgs.

Wake Island

Wake Island HI 96898

Landholding Agency: Air Force

Property Number: 18201130018

Status: Unutilized

Directions: 400, 1403, 1406, 1407, 1408, 1411

Reasons: Extensive deterioration, Secured Area, Contamination, Floodway

Idaho

7 Bldgs.

Falcon Street

Mountain Home ID 83648

Landholding Agency: Air Force

Property Number: 18201130008

Status: Underutilized

Directions: 4201, 4202, 4205, 4206, 4207, 4208, 4209

Reasons: Secured Area, Extensive deterioration

6 Bldgs.

Mountain Home AFB

Mountain Home ID 83647

Landholding Agency: Air Force

Property Number: 18201130032

Status: Excess

Directions: 2408, 1222, 1224, 1226, 1229, 1359

Comments: Reasons for unsuitability varies among properties

Reasons: Secured Area, Within airport runway clear zone, Extensive deterioration

Illinois

4 Bldgs.

Scott AFB

Scott IL 62225

Landholding Agency: Air Force

Property Number: 18201130023

Status: Excess

Directions: 48, 1910, 1527, 1911

Reasons: Secured Area

Bldg. 3138

Scott AFB

Scott IL 62225

Landholding Agency: Air Force

Property Number: 18201140050

Status: Unutilized

Comments: Beyond economical repair

Reasons: Extensive deterioration

Indiana

Bldg. 103

Grissom AFB

Peru IN 46970

Landholding Agency: Air Force

Property Number: 18200940011

Status: Excess

Reasons: Within 2000 ft. of flammable or explosive material

Bldg. 18

Grissom AFB

Peru IN 46970

Landholding Agency: Air Force

Property Number: 18201020012

Status: Excess

Reasons: Within 2000 ft. of flammable or explosive material

Kansas

27 Bldgs.

McConnell AFB

Sedgwick KS 67210

Landholding Agency: Air Force

Property Number: 18201020013

Status: Excess

Directions: 2052, 2347, 2054, 2056, 2044, 2047, 2049, 2071, 2068, 2065, 2063, 2060, 2237, 2235, 2232, 2230, 2352, 2349, 2345, 2326, 2328, 2330, 2339, 2324, 2342, 2354, and 2333

Reasons: Secured Area

4 Bldgs.

Military Family Housing

McConnell AFB

McConnell KS 67210

Landholding Agency: Air Force

Property Number: 18201210090

Status: Excess

Directions: 2063, 2275, 2273, 2272

Comments: Nat'l security concerns; no public access and no alternative method to gain access

Reasons: Secured Area

12 Bldgs. (Duplexes—3 BR)

Military Family Housing

McConnell AFB

McConnell KS 67210

Landholding Agency: Air Force

Property Number: 18201210091

Status: Excess

Directions: 2246, 2249, 2251, 2254, 2265, 2370, 2372, 2384, 2386, 2279, 2277, 2268

Comments: Nat'l security concerns; no public access and no alternative method to gain access

Reasons: Secured Area

5 Bldgs. (Duplexes—2 BR)

Military Family Housing

McConnell AFB

McConnell KS 67210

Landholding Agency: Air Force

Property Number: 18201210092

Status: Excess

Directions: 2378, 2381, 2375, 2257, 2259

Comments: Nat'l security concerns; no public access and no alternative method to gain access

Reasons: Secured Area

5 Bldgs.

Military Housing

McConnell KS 67210

Landholding Agency: Air Force

Property Number: 18201210107

Status: Unutilized

Directions: 2378, 2381, 2375, 2257, 2259

Comments: Nat'l security concerns; no public access and no alternative method to gain access.

Reasons: Secured Area

12 Bldgs.

Military Housing

McConnell KS 67210

Landholding Agency: Air Force

Property Number: 18201210108

Status: Excess

Directions: 2246, 2249, 2251, 2254, 2265, 2370, 2372, 2384, 2386, 2279, 2268

Comments: Nat'l security concerns; no public access and no alternative method to gain access

Reasons: Secured Area

4 Bldgs.

Military Housing

McConnell KS 67210

Landholding Agency: Air Force

Property Number: 18201210109

Status: Excess

Directions: 3029, 3008, 3012, 3016

Comments: Nat'l security concerns; no public access and no alternative method to gain access

Reasons: Secured Area

Bldg. 49928

210 SAB Rd.

Cape Canaveral KS 32925

Landholding Agency: Air Force

Property Number: 18201210110

Status: Excess

Comments: Nat'l security concerns; no public access and no alternative method to gain access

Reasons: Secured Area

Louisiana

Barksdale Middle Marker

Null

Bossier LA 71112

Landholding Agency: Air Force

Property Number: 18200730006

Status: Excess

Reasons: Extensive deterioration

TARS Sites 1-6

Null

Morgan City LA 70538

Landholding Agency: Air Force

Property Number: 18201020014

Status: Unutilized

Reasons: Secured Area

6 Bldgs.

AFB

Barksdale LA

Landholding Agency: Air Force

Property Number: 18201110001

Status: Underutilized

Directions: Bldgs: 5163, 5175, 7227, 7266, 7321, 7322

Reasons: Secured Area, Extensive deterioration, Within 2000 ft. of flammable or explosive material

Bldgs. 5745 and 7253

615 Davis Ave.

Barksdale LA

Landholding Agency: Air Force

Property Number: 18201120022

Status: Underutilized

Reasons: Secured Area, Within 2000 ft. of flammable or explosive material, Extensive deterioration

Bldgs. 7253 & 7254

Barksdale AFB

Barksdale LA

Landholding Agency: Air Force

Property Number: 18201120035

Status: Underutilized

Reasons: Within 2000 ft. of flammable or explosive material, Secured Area, Extensive deterioration

Bldg. 7254

Barksdale AFB

Barksdale LA

Landholding Agency: Air Force

Property Number: 18201120056

Status: Underutilized

Reasons: Within 2000 ft. of flammable or explosive material, Extensive deterioration

Bldg. 1359

Davis Ave.

Barkdale LA 71101

Landholding Agency: Air Force

Property Number: 18201140040

Status: Underutilized

Comments: Beyond repair

Reasons: Secured Area, Within airport runway clear zone, Extensive deterioration

Maine

Facilities 1, 2, 3, 4

OTH-B Site

Moscow ME 04920

Landholding Agency: Air Force

Property Number: 18200730007

Status: Unutilized

Reasons: Within 2000 ft. of flammable or explosive material

Bldgs. B496 and 497

Bangor Internatl Airport

Bangor ME 04401

Landholding Agency: Air Force

Property Number: 18201020015

Status: Unutilized

Reasons: Secured Area

Maryland

Maryland Air Nat'l Guard

2701 Eastern Blvd.

Baltimore MD

Landholding Agency: Air Force

Property Number: 18201140006

Status: Excess

Directions: Facility 1130

Reasons: Secured Area

Massachusetts

Bldg. 180

180 Guard Shack

Otis MA

Landholding Agency: Air Force

Property Number: 18201120040

Status: Underutilized

Reasons: Extensive deterioration, Within airport runway clear zone, Secured Area

Bldg. 191

191 Izzea St.

Otis ANGB MA

Landholding Agency: Air Force

Property Number: 18201120041

Status: Underutilized

Reasons: Secured Area, Within airport runway clear zone

Bldg. 198

198 Izzea St.

Otis ANGB MA

Landholding Agency: Air Force

Property Number: 18201120042

Status: Underutilized

Reasons: Secured Area, Extensive deterioration

Bldg. 201

201 Reilly St.

Otis MA

Landholding Agency: Air Force

Property Number: 18201120043

Status: Underutilized

Reasons: Extensive deterioration, Secured Area

Bldg. 3230

3230 Simpkins Rd.

Otis MA

Landholding Agency: Air Force

Property Number: 18201120044

Status: Underutilized

Reasons: Extensive deterioration

Michigan

6 Bldgs.

Alpena CRTC

Alpena MI

Landholding Agency: Air Force

Property Number: 18201120045

Status: Underutilized

Directions: 322, 323, 324, 403, 412, 413

Reasons: Secured Area, Within 2000 ft. of flammable or explosive material

Mississippi

5 Bldgs.

AFB

Kessler MS 39534

Landholding Agency: Air Force

Property Number: 18201110004

Status: Excess

Directions: Bldgs: B2804, B4203, B4812, B6903, B6918

Reasons: Secured Area

Bldg. 1809

Columbus AFB

Columbus MS 39710

Landholding Agency: Air Force

Property Number: 18201120030

Status: Excess

Reasons: Extensive deterioration, Within 2000 ft. of flammable or explosive material

Facilities 178 and 179

Thompson Field

Jackson MS 39232

Landholding Agency: Air Force

Property Number: 18201140003

Status: Unutilized

Reasons: Extensive deterioration, Secured Area

Storage, Liquid Oxygen

RPUID 455250

Meridian MS

Landholding Agency: Air Force

Property Number: 18201140004

Status: Unutilized

Reasons: Secured Area

Missouri

Res Forces Opl Trng

Lambert- St. Louis

St. Louis MO 63044

Landholding Agency: Air Force

Property Number: 18201140007

Status: Unutilized

Directions: 18, 235, 131

Reasons: Secured Area, Extensive deterioration

Montana

Bldgs. 1600, 1601

Malmstrom AFB

Cascade MT 59402

Landholding Agency: Air Force

Property Number: 18200920020

Status: Unutilized

Reasons: Extensive deterioration, Within 2000 ft. of flammable or explosive material, Secured Area

7 Bldgs. AFB

107 77th Street North

Malmstrom AFB

Malmstrom MT 59402-7540

Landholding Agency: Air Force

Property Number: 18201110002

Status: Underutilized

Directions: 581, 800, 1082, 1152, 1156, 1705, 3065

Reasons: Secured Area

10 Bldgs.

Malmstorm AFB

Malmstorm MT

Landholding Agency: Air Force

Property Number: 18201120036

Status: Unutilized

Directions: 130, 226, 248, 320, 370, 448, 471, 650, 1145, 1151

Reasons: Secured Area

5 Bldgs.

Malmstrom AFB

Malmstrom MT

Landholding Agency: Air Force

Property Number: 18201120037

Status: Unutilized

Directions: 1192, 1702, 1884, 2000, 4000

Reasons: Secured Area

Malmstrom Radio Relay Annex

Malmstrom AFB

Malmstrom MT

Landholding Agency: Air Force

Property Number: 18201130004

Status: Excess

Reasons: Extensive deterioration

9 Bldgs.

Malmstrom AFB

Malmstrom MT 59402

Landholding Agency: Air Force

Property Number: 18201130005

Status: Unutilized

Directions: 219, 250, 1409, 1410, 1902, 1903, 1904, 1905, 2041

Reasons: Secured Area

4 Bldgs.

Malmstrom AFB

Malmstrom MT 59402

Landholding Agency: Air Force

Property Number: 18201140039

Status: Unutilized

Directions: 630, 1869, 8001, 1874

Reasons: Secured Area

Nebraska

Bldgs. 163, 402, 554

Offutt AFB

Offutt NE 68113

Landholding Agency: Air Force

Property Number: 18201030008

Status: Excess

Reasons: Secured Area

Bldg. 481

AFB

Offutt NE 68113

Landholding Agency: Air Force

Property Number: 18201120010

Status: Excess

Reasons: Within airport runway clear zone, Secured Area

New Hampshire

Bldg. 152

Pease Internatl Tradeport

Newington NH 03803

Landholding Agency: Air Force

Property Number: 18200920007

Status: Unutilized

Reasons: Within 2000 ft. of flammable or explosive material, Secured Area

New Hampshire

Bldg. 16

Pease Internatl Tradeport

Newington NH 03803

Landholding Agency: Air Force

Property Number: 18200930006

Status: Excess

Reasons: Within 2000 ft. of flammable or explosive material

Bldg. 256

Portsmouth Int'l Airport

Newington NH

Landholding Agency: Air Force

Property Number: 18201120038

Status: Excess

Reasons: Within 2000 ft. of flammable or explosive material, Secured Area

New Jersey

Bldgs. 2609, 2611

Joint Base

McGuire NJ

Landholding Agency: Air Force

Property Number: 18201010013

Status: Unutilized

Reasons: Extensive deterioration

5 Bldgs.

Joint Base McGuire-Dix-Lakehurst

Trenton NJ 08641

Landholding Agency: Air Force

Property Number: 18201020016

Status: Unutilized

Directions: 1827, 1925, 3424, 3446, and 3449

Reasons: Secured Area, Extensive deterioration

Bldgs. 2304 and 9144

Joint Base McGuire-Dix-Lakehurst

Trenton NJ

Landholding Agency: Air Force

Property Number: 18201130024

Status: Unutilized

Reasons: Secured Area, Extensive deterioration

Bldg. 3305

JBMDL

McGuire NJ 08641

Landholding Agency: Air Force

Property Number: 18201140011

Status: Excess

Reasons: Extensive deterioration, Floodway, Within 2000 ft. of flammable or explosive material, Secured Area

20 Bldgs.

Weapons Racks—JBMDL

Ft. Dix NJ 08640

Landholding Agency: Air Force

Property Number: 18201140042

Status: Unutilized

Directions: 9126, 9189, 9064E, 9079C, 9083, 9091D, 9099F,9817, 9835, 9853, 9856A, 9706, 9722, 9737, 9544, 9536, 9477, 9459B, 9460A, 9419A

Comments: No potential to meet criteria— beyond economical repair

Reasons: Extensive deterioration

16 Bldgs.

Joint Base McGuire Dix Lakehurst

Ft. Dix NJ 08640

Landholding Agency: Air Force

Property Number: 18201140043

Status: Unutilized

Directions: 9169A, 9176, 9066D, 9703, 9765, 3531, 3532, 3533, 3534, 3535, 3536, 9482, 9464, 8548, 9487, 9425

Comments: No potential to meet criteria- not economically feasible

Reasons: Extensive deterioration

3 Bldgs.

Joint Base McGuire Dix Lakehurst

Ft. Dix NJ 08640

Landholding Agency: Air Force

Property Number: 18201140044

Status: Unutilized

Directions: 9066C, 9196, 9855A

Comments: No potential to meet criteria- not economically feasible

Reasons: Extensive deterioration

8 Bldgs.

Joint base McGuire Dix Lakehurst

Ft. Dix NJ 08640

Landholding Agency: Air Force

Property Number: 18201140045

Status: Unutilized

Directions: 9139, 9157, 9860, 9868, 9462, 9462A, 9467, 9427

Comments: No potential to meet criteria—not economically feasible

Reasons: Extensive deterioration

6 Bldgs.

Ammunition Hut

Ft. Dix NJ 08640

Landholding Agency: Air Force

Property Number: 18201140047

Status: Unutilized

Directions: 9151, 9856, 9867, 9483, 9465, 9211

Comments: No potential to meet criteria—not economically feasible

Reasons: Extensive deterioration

3 Bldgs.

Nat'l Guard Bureau

JBMDL NJ 08641

Landholding Agency: Air Force

Property Number: 18201210084

Status: Excess

Directions: 3373, 3312, 3303

Comments: Nat'l security concerns; no public access and no alternative method to gain access

Reasons: Secured Area

New Mexico

Bldg. 1016

Kirtland AFB

Bernalillo NM 87117

Landholding Agency: Air Force

Property Number: 18200730008

Status: Unutilized

Reasons: Within 2000 ft. of flammable or explosive material, Secured Area, Extensive deterioration

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Secured Area, Within 2000 ft. of flammable or explosive material

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Secured Area, Extensive deterioration, Within 2000 ft. of flammable or explosive material

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Secured Area, Within 2000 ft. of flammable or explosive material

Bldgs. 807, 833

Holloman AFB

Otero NM 88330

Landholding Agency: Air Force

Property Number: 18200830023

Status: Unutilized

Reasons: Within 2000 ft. of flammable or explosive material, Secured Area

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

Bldg. 30143

Kirtland AFB

Bernalillo NM 87117

Landholding Agency: Air Force

Property Number: 18200930009

Status: Excess

Reasons: Secured Area, Extensive deterioration, Within 2000 ft. of flammable or explosive material

Bldg. 1267, 1620

Holloman AFB

Otero NM 88330

Landholding Agency: Air Force

Property Number: 18200940013

Status: Unutilized

Reasons: Secured Area

Bldgs. 214, 851, 1199

Holloman AFB

Holloman AFB NM 88330

Landholding Agency: Air Force

Property Number: 18201010014

Status: Underutilized

Reasons: Secured Area

Bldg. 865

Holloman AFB

Otero NM 88330

Landholding Agency: Air Force

Property Number: 18201030009

Status: Unutilized

Reasons: Extensive deterioration, Within 2000 ft. of flammable or explosive material, Secured Area

Bldg. 790

Holloman AFB

Otero NM 88330

Landholding Agency: Air Force

Property Number: 18201030013

Status: Unutilized

Reasons: Extensive deterioration, Secured Area

Bldg. 880

1241 Moroni

Holloman NM 88330

Landholding Agency: Air Force

Property Number: 18201040001

Status: Unutilized

Reasons: Secured Area

Bldg. 825

Holloman AFB

Holloman NM 88330

Landholding Agency: Air Force

Property Number: 18201040002

Status: Unutilized

Reasons: Extensive deterioration

Bldg. 867

1293 Bong St.

Holloman NM 88330

Landholding Agency: Air Force

Property Number: 18201120017

Status: Unutilized

Reasons: Secured Area, Within airport runway clear zone, Extensive deterioration

4 Bldgs.

Kirtland AFB

Kirtland NM

Landholding Agency: Air Force

Property Number: 18201120034

Status: Underutilized

Directions: 376, 614, 1905, 30101

Reasons: Secured Area, Within 2000 ft. of flammable or explosive material, Extensive deterioration

Bldgs. 525 and 730

Kirtland AFB

Kirtland NM 87117

Landholding Agency: Air Force

Property Number: 18201130002

Status: Unutilized

Reasons: Secured Area, Extensive deterioration

Bldg. 1800

Cannon AFB

Cannon NM 88103

Landholding Agency: Air Force

Property Number: 18201130009

Status: Underutilized

Reasons: Secured Area, Within airport runway clear zone

2 Bldgs.

Connecticut Holloman AFB

Holloman NM 88310

Landholding Agency: Air Force

Property Number: 18201130037

Status: Unutilized

Directions: 272 and 273

Reasons: Secured Area, Within airport runway clear zone

Bldgs. 1054 and 1070

251 Air Guard Dr. SE

Kirtland NM 87117

Landholding Agency: Air Force

Property Number: 18201140005

Status: Excess

Reasons: Secured Area

Bldg. 1059

Holloman AFB

Holloman NM 88310

Landholding Agency: Air Force

Property Number: 18201140032

Status: Underutilized

Reasons: Secured Area, Extensive deterioration, Within 2000 ft. of flammable or explosive material

Bldg. 306

Holloman AFB

Holloman NM 88330

Landholding Agency: Air Force

Property Number: 18201140033

Status: Unutilized

Reasons: Secured Area, Extensive deterioration

2 Bldgs.

Holloman AFB

Holloman NM 88330

Landholding Agency: Air Force

Property Number: 18201210083

Status: Unutilized

Directions: 792, 817

Comments: Nat'l security concerns; no public access and no alternative method to gain access

Reasons: Secured Area

New York

Bldg. 104

Rome Research Site

Rome NY 13441

Landholding Agency: Air Force

Property Number: 18201130001

Status: Unutilized

Reasons: Secured Area

3 Bldgs.

AvFuels Circle

Niagara Falls NY 14304

Landholding Agency: Air Force

Property Number: 18201140014

Status: Unutilized

Directions: 919, 922, 2410

Reasons: Secured Area

Bldgs. 21 and 22

Air Nat'l Guard Road

Scotia NY 12302

Landholding Agency: Air Force

Property Number: 18201140016

Status: Unutilized

Reasons: Within 2000 ft. of flammable or explosive material

North Dakota

Bldgs. 1612, 1741

Grand Forks AFB

Grand Forks ND 58205

Landholding Agency: Air Force

Property Number: 18200720023

Status: Unutilized

Reasons: Secured Area, Within 2000 ft. of flammable or explosive material

5 Bldgs.

4128 27th Ave.

Grand Forks ND 58203

Landholding Agency: Air Force

Property Number: 18201040012

Status: Unutilized

Directions: 120,200,250,255,300

Reasons: Within 2000 ft. of flammable or explosive material

Bldg. 370

1400 32nd Ave. N.

Fargo ND 58102

Landholding Agency: Air Force

Property Number: 18201140002

Status: Underutilized

Reasons: Secured Area

Ohio

Facility 30089

5490 Pearson

Wright Patterson AFB OH 45433

Landholding Agency: Air Force

Property Number: 18201130022

Status: Excess

Reasons: Secured Area, Extensive deterioration

Facility 20040

2330 K. Street

WPAFB OH 45433

Landholding Agency: Air Force

Property Number: 18201130030

Status: Unutilized

Reasons: Secured Area

6 Bldgs.

Wright-Patterson AFB

WPAFB OH 45433

Landholding Agency: Air Force

Property Number: 18201140048

Status: Underutilized

Directions: 20455, 20456, 20451, 31244, 34046, 34059

Reasons: Secured Area

2 Bldgs.

Wright-Patterson AFB

WPAFB OH 45433

Landholding Agency: Air Force

Property Number: 18201140049

Status: Unutilized

Directions: 31197 and 20329

Reasons: Secured Area

Oklahoma

3 Bldgs.

Altus AFB

Altus OK 73523

Landholding Agency: Air Force

Property Number: 18201040013

Status: Excess

Directions: 296, 444, 503

Reasons: Within airport runway clear zone, Within 2000 ft. of flammable or explosive material

Control Tower Facility 163

626 Elam Road

Vance Air Force Base

Vance OK

Landholding Agency: Air Force

Property Number: 18201110006

Status: Excess

Reasons: Secured Area, Within airport runway clear zone

Bldg. 39, AGGN

500 North First Street

Altus OK

Landholding Agency: Air Force

Property Number: 18201120019

Status: Excess

Reasons: Secured Area

Bldg 415

605 N. Perimeter Rd

Altus OK 73523

Landholding Agency: Air Force

Property Number: 18201120020

Status: Excess

Reasons: Secured Area

7 Bldgs.

AGGN

Altus OK

Landholding Agency: Air Force

Property Number: 18201120021

Status: Excess

Directions: 296, 358, 374, 376, 377, 413, 445

Reasons: Secured Area

11 Bldgs.

4329 N. Corsair Ave

Tulsa Int'l Airport

Tulsa OK 74115

Landholding Agency: Air Force

Property Number: 18201120026

Status: Underutilized

Directions: 802, 803, 804, 805, 806, 807, 808, 809, 810, 811, 812

Reasons: Secured Area, Within airport runway clear zone, Extensive deterioration

Facility 188

1065 Elam Road

Vance AFB

Enid OK

Landholding Agency: Air Force

Property Number: 18201120033

Status: Excess

Reasons: Within airport runway clear zone, Secured Area

12 Bldgs.

Tinker AFB

Tinker OK 73145

Landholding Agency: Air Force

Property Number: 18201140018

Status: Excess

Directions: 2126, 2211, 2212, 3108, 3212, 3215, 3535, 3772, 5801, 5802, 5803, 5897

Reasons: Secured Area

9 Bldgs.

Tinker AFB

Tinker OK 73145

Landholding Agency: Air Force

Property Number: 18201140046

Status: Excess

Directions: 5927, 7013, 7035, 7036, 7042, 208, 935, 1084, 2113

Comments: Reasons of unsuitability varies

Reasons: Secured Area, Floodway

Oregon

Bldg. 1001

ANG Base

Portland OR 97218

Landholding Agency: Air Force

Property Number: 18200820018

Status: Underutilized

Reasons: Secured Area, Within 2000 ft. of flammable or explosive material

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

South Carolina

Bldg. B1626

Shaw AFB

Sumter SC 29152

Landholding Agency: Air Force

Property Number: 18200930010

Status: Unutilized

Reasons: Within 2000 ft. of flammable or explosive material, Secured Area

10 Bldgs.

Shaw AFB

Sumter SC 29152

Landholding Agency: Air Force

Property Number: 18200940014

Status: Unutilized

Directions: B16, B34, B122, B219, B220, B221, B403, B418, B428, B430

Reasons: Secured Area

5 Bldgs.

Shaw AFB

Sumter SC 29152

Landholding Agency: Air Force

Property Number: 18200940015

Status: Unutilized

Directions: B800, B900, B911, B1040, B1041

Reasons: Secured Area

7 Bldgs.

Shaw AFB

Sumber SC 29152

Landholding Agency: Air Force

Property Number: 18200940016

Status: Unutilized

Directions: B1702, B1707, B1708, B1804, B1813, B1907, B5226

Reasons: Secured Area

7 Bldgs.

Shaw AFB

Sumter SC 29152

Landholding Agency: Air Force

Property Number: 18201020017

Status: Unutilized

Directions: B1026, B400, B401, B1402, B1701, B1711, and B1720

Reasons: Secured Area

Bldgs. B40006 and B40009

Shaw AFB

Wedgefield SC 29168

Landholding Agency: Air Force

Property Number: 18201020018

Status: Unutilized

Reasons: Secured Area

Bldg. B411

Shaw AFB

Sumter SC 29152

Landholding Agency: Air Force

Property Number: 18201030010

Status: Excess

Reasons: Within 2000 ft. of flammable or explosive material, Secured Area

25 Bldgs.

JB Charleston

N. Charleston SC 29404

Landholding Agency: Air Force

Property Number: 18201040006

Status: Excess

Directions: 1501B, 1503A, 1503B, 1506A, 1508A, 1508B, 1512A, 1514A, 1520A, 1520B, 1529A, 1531A, 1531B, 1533A, 1533B, 1537A, 1539A, 1540A, 1540B, 1563A, 1563B, 1565B, 1576A, 1577A, 1577B

Reasons: Secured Area

20 Bldgs.

JB Charleston

N. Charleston SC 29404

Landholding Agency: Air Force

Property Number: 18201040007

Status: Excess

Directions: 1505A, 1505B, 1506B, 1507B, 1510A, 1510B, 1514B, 1516A, 1516B, 1518B, 1532B, 1533B, 1538B, 1539B, 1575B, 1576B, 1576B, 1578B, 1579B, 1580A, 1580B

Reasons: Secured Area

13 Bldgs.

JB Charleston

N. Charleston SC 29404

Landholding Agency: Air Force

Property Number: 18201040008

Status: Excess

Directions: 1501A, 1507A, 1509A, 1517A, 1518A, 1533A, 1535A, 1538A, 1565A, 1575A, 1578A, 1579A, 1688A

Reasons: Secured Area

4 Bldgs.

JB AFB

N. Charleston SC 29404

Landholding Agency: Air Force

Property Number: 18201040010

Status: Excess

Directions: 1515, 1530, 1536, 1571

Reasons: Secured Area

12 Bldgs.

JB Charleston

N. Charleston SC 29404

Landholding Agency: Air Force

Property Number: 18201040018

Status: Excess

Directions: 1512B, 1529B, 1537B, 1519A, 1519B, 1688B, 1690A, 1690B, 1509B, 1517B, 1521A, 1521B

Reasons: Secured Area

2 Bldgs.

Edwards AFB

Edwards SC 93524

Landholding Agency: Air Force

Property Number: 18201040019

Status: Excess

Directions: 1014, 1015

Reasons: Secured Area

Bldg. 1

Shaw AFB

Sumter SC 29152

Landholding Agency: Air Force

Property Number: 18201120006

Status: Excess

Reasons: Secured Area

B823

518 Polifka St.

Sumter SC 29152

Landholding Agency: Air Force

Property Number: 18201120007

Status: Excess

Reasons: Secured Area

Bldg. 408

Shaw AFB

Sumter SC 29152

Landholding Agency: Air Force

Property Number: 18201120011

Status: Excess

Reasons: Secured Area

Bldg. 1422

515 Exchange St.

Sumter SC 29152

Landholding Agency: Air Force

Property Number: 18201120012

Status: Excess

Reasons: Secured Area

B1425

516 Exchange St.

Sumter SC 29152

Landholding Agency: Air Force

Property Number: 18201120015

Status: Excess

Reasons: Extensive deterioration

B409

421 Johnson St.

Sumter SC 29152

Landholding Agency: Air Force

Property Number: 18201120018

Status: Excess

Reasons: Secured Area

B113

102 Patrol Rd.

Sumter SC

Landholding Agency: Air Force

Property Number: 18201120051

Status: Excess

Reasons: Within 2000 ft. of flammable or explosive material, Secured Area

3 Bldgs.

Shaw AFB

Sumter SC

Landholding Agency: Air Force

Property Number: 18201210082

Status: Excess

Directions: B-702, B-1049, B-1128

Comments: nat'l security concerns; no public access and no alternative method to gain access

Reasons: Secured Area

South Dakota

Bldg. 2306

Ellsworth AFB

Meade SD 57706

Landholding Agency: Air Force

Property Number: 18200740008

Status: Underutilized

Reasons: Secured Area, Within 2000 ft. of flammable or explosive material

Bldg. 6927

Ellsworth AFB

Meade SD 57706

Landholding Agency: Air Force

Property Number: 18200830011

Status: Unutilized

Reasons: Secured Area, Within 2000 ft. of flammable or explosive material

Tennessee

Bldgs. 250 & 506

PSXE (Mcghee Tyson Aprt)

320 Post Ave., McGhee Tyson ANG

Louisville TN

Landholding Agency: Air Force

Property Number: 18201120039

Status: Excess

Reasons: Extensive deterioration, Secured Area

Bldgs. 214 and 219

240 Knapp Blvd.

Nashville TN 37217

Landholding Agency: Air Force

Property Number: 18201140013

Status: Unutilized

Reasons: Extensive deterioration, Secured Area

3 Bldgs.

Nat'l Security Complex

Oak Ridge TN 37831

Landholding Agency: Energy

Property Number: 41201210004

Status: Excess

Directions: 9404-03A, 9720-74, 9754-03

Comments: nat'l security concerns; no public access and no alternative method to gain access

Reasons: Secured Area

Texas

Bldg. 1001

FNXC, Dyess AFB

Tye TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. FNXH 2001

Dyess AFB

Dyess AFB TX 79607

Landholding Agency: Air Force

Property Number: 18200930011

Status: Unutilized

Reasons: Within 2000 ft. of flammable or explosive material, Secured Area

6 Bldgs.

Dyess AFB

Dyess AFB TX 79607

Landholding Agency: Air Force

Property Number: 18200930013

Status: Unutilized

Directions: FNWZ 7235, 7312, 7405, 8045, 8120, 9113

Reasons: Secured Area

4 Bldgs.

Dyess AFB

Dyess AFB TX

Landholding Agency: Air Force

Property Number: 18200940017

Status: Unutilized

Directions: FNWZ 5017, 5305, 6015, 6122

Reasons: Secured Area

Bldg. 351

Laughlin AFB

Del Rio TX 78840

Landholding Agency: Air Force

Property Number: 18201010016

Status: Unutilized

Reasons: Secured Area

Bldgs. 6115, 6126, 6127

Dyess AFB

Dyess TX 79607

Landholding Agency: Air Force

Property Number: 18201030011

Status: Underutilized

Reasons: Secured Area

8 Bldgs.

AFB

Sheppard TX 76311-2621

Landholding Agency: Air Force

Property Number: 18201110003

Status: Unutilized

Directions: Bldgs: 17, 19, 21, 147, 526, 726, 982, 1664

Reasons: Extensive deterioration

Bldg. 111

AFB

Goodfellow TX 76908

Landholding Agency: Air Force

Property Number: 18201110012

Status: Excess

Reasons: Secured Area

5 Bldgs.

Goodfellow AFB

Goodfellow TX

Landholding Agency: Air Force

Property Number: 18201120029

Status: Excess

Directions: 137, 139, 144, 320, 712

Reasons: Secured Area, Extensive deterioration, Within 2000 ft. of flammable or explosive material

Facility 6120 & 6122

Lackland AFB

Lackland TX

Landholding Agency: Air Force

Property Number: 18201120031

Status: Underutilized

Reasons: Secured Area, Extensive deterioration

3 Bldgs.

Lackland AFB

Lackland TX

Landholding Agency: Air Force

Property Number: 18201120032

Status: Underutilized

Directions: 6119, 6125, 6309

Reasons: Extensive deterioration, Secured Area

4 Bldgs.

Joint Base San Antonio

Houston TX 78234

Landholding Agency: Air Force

Property Number: 18201140063

Status: Unutilized

Directions: 4112, 4113, 4114, 4124

Comments: not feasible to repair

Reasons: Extensive deterioration

Utah

Bldg. 3002

Francis Peak ANG Station

Farmington UT 84025

Landholding Agency: Air Force

Property Number: 18201140012

Status: Excess

Reasons: Secured Area, Within 2000 ft. of flammable or explosive material

Vermont

4 Bldgs.

Burling IAP

Burling VT 05403

Landholding Agency: Air Force

Property Number: 18201140017

Status: Excess

Directions: 114, 115, 116, 117

Reasons: Within 2000 ft. of flammable or explosive material, Secured Area

Virginia

12 Bldgs

Langley AFB

Langley VA 23665

Landholding Agency: Air Force

Property Number: 18200920012

Status: Unutilized

Directions: 35, 36, 903, 905, 1013, 1020, 1033, 1050, 1066, 1067, 1069, 1075

Reasons: Secured Area, Floodway

Bldgs. 38, 52

Langley AFB

Langley VA 23665

Landholding Agency: Air Force

Property Number: 18201010018

Status: Unutilized

Reasons: Secured Area, Extensive deterioration

Bldgs. 52, 568, 731

Langley AFB

Langley VA 23665

Landholding Agency: Air Force

Property Number: 18201030012

Status: Unutilized

Reasons: Extensive deterioration, Secured Area

Joint Base Langley Eustis

AFB

Ft. Eustis VA 23604

Landholding Agency: Air Force

Property Number: 18201110011

Status: Unutilized

Reasons: Extensive deterioration

Bldg. 405

Kerr Rd.

Ft. Eustis VA 23604

Landholding Agency: Air Force

Property Number: 18201120003

Status: Underutilized

Reasons: Extensive deterioration

Ft. Eustis

801 Lee Blvd.

Eustis VA 23604

Landholding Agency: Air Force

Property Number: 18201120005

Status: Underutilized

Reasons: Extensive deterioration

Bldg. 2738

Harrison Loop

Ft. Eustis VA 23604

Landholding Agency: Air Force

Property Number: 18201120009

Status: Underutilized

Reasons: Extensive deterioration

Bldg. 435

Joint Base Langley Eustis

Eustis VA

Landholding Agency: Air Force

Property Number: 18201120013

Status: Unutilized

Reasons: Extensive deterioration

Facility 999

400 Clarke Ave.

Langley VA 23665

Landholding Agency: Air Force

Property Number: 18201120016

Status: Underutilized

Reasons: Secured Area, Extensive deterioration

Bldgs. 11 & 12

Langley AFB

Langley VA

Landholding Agency: Air Force

Property Number: 18201120052

Status: Underutilized

Reasons: Secured Area

Bldg. 254

Langley AFB

Langley VA 23665

Landholding Agency: Air Force

Property Number: 18201140030

Status: Underutilized

Reasons: Secured Area, Floodway

Bldgs. 244 and 253

Langley AFB

Langley VA 23665

Landholding Agency: Air Force

Property Number: 18201140031

Status: Underutilized

Reasons: Floodway, Secured Area

Bldg. 449

Joint Base Langley-Eustis

Ft. Eustis VA 23604

Landholding Agency: Air Force

Property Number: 18201140036

Status: Unutilized

Comments: Deteriorated beyond repair

Reasons: Extensive deterioration

Washington

Defense Fuel Supply Point

18 structures/21 acres

Mukilteo WA

Landholding Agency: Air Force

Property Number: 18200910001

Status: Unutilized

Reasons: Extensive deterioration

Bldgs. 455 and 456

Paine Field ANG Station

Evertt WA 98204

Landholding Agency: Air Force

Property Number: 18201140009

Status: Excess

Reasons: Secured Area, Within airport runway clear zone

West Virginia

Bldgs. 102, 106, 111

Air National Guard

Martinsburg WV 25405

Landholding Agency: Air Force

Property Number: 18200920013

Status: Unutilized

Reasons: Within 2000 ft. of flammable or explosive material, Secured Area

Bldgs. 101, 110

Air National Guard

Martinsburg WV 25405

Landholding Agency: Air Force

Property Number: 18200940018

Status: Unutilized

Reasons: Within 2000 ft. of flammable or explosive material, Secured Area

Wyoming

Bldg. 00012

Cheyenne RAP

Laramie WY 82009

Landholding Agency: Air Force

Property Number: 18200730013

Status: Unutilized

Reasons: Secured Area, Within 2000 ft. of flammable or explosive material, Extensive deterioration

6 Bldgs.

USAF

Warren WY 82005

Landholding Agency: Air Force

Property Number: 18201130006

Status: Unutilized

Directions: 835, 836, 839, 945, 985, 2350

Reasons: Secured Area

Land

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Florida

Defense Fuel Supply Point

Null

Lynn Haven FL 32444

Landholding Agency: Air Force

Property Number: 18200740009

Status: Excess

Reasons: Floodway

Illinois

Annex

Scolt Radio Relay

Belleville IL 62221

Landholding Agency: Air Force

Property Number: 18201020011

Status: Unutilized

Reasons: Secured Area

Indiana

1.059 acres

Grissom AFB

Peru IN 46970

Landholding Agency: Air Force

Property Number: 18200940012

Status: Excess

Reasons: Within 2000 ft. of flammable or explosive material

North Dakota

JFSE

4128 27th Ave.

Grand Forks ND 58203

Landholding Agency: Air Force

Property Number: 18201040011

Status: Unutilized

Reasons: Within 2000 ft. of flammable or explosive material

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2000 ft. of flammable or explosive material

2.43 acre/0.36 acre

Dyess AFB

Dyess AFB TX 79563

Landholding Agency: Air Force

Property Number: 18200930014

Status: Unutilized

Directions: FNXL 99104, 99108, 99110, 99112, FNXM 99102, 99103, 99108

Reasons: Within airport runway clear zone

[FR Doc. 2012-6674 Filed 3-22-12; 8:45 am]

BILLING CODE P